DEPARTMENT OF HEALTH AND HUMAN SERVICES

Indian Health Service

Request for Public Comment: 60-Day Proposed Information Collection: Addendum to Declaration for Federal Employment (OF 306), Indian Health Service, Child Care and Indian Child Care Worker Positions

AGENCY: Indian Health Service, HHS.

ACTION: Notice and request for comments. Request for reinstatement without revision.

SUMMARY: In compliance with the Paperwork Reduction Act of 1995, the Indian Health Service (IHS) invites the public to take this opportunity to comment on the information collection titled, “Addendum to Declaration for Federal Employment (OF 306), Indian Health Service, Childcare and Indian Child Care Worker Positions,” Office of Management and Budget (OMB) Control Number 0917-0028.

DATES: October 27, 2025. Your comments regarding this information collection are best assured of having full effect if received within 60 days of the date of this publication.

ADDRESSES: Submit comments to Randolph Beasley III by email at Randolph.Beasley@ihs.gov.

Comments submitted in response to this notice will be made available to the public by publishing them in the 30-day Federal Register notice for this information collection. For this reason, please do not include information of a confidential nature, such as sensitive personal information or proprietary information. If comments are submitted via email, the email address will be automatically captured and included as part of the comment that is placed in the public docket and made available on the internet. Please note that responses to this public comment request containing any routine notice about the confidentiality of the communication will be treated as public comments that may be made available to the public notwithstanding the inclusion of the routine notice.

FOR FURTHER INFORMATION CONTACT: To request additional information, please contact Thomas Hamby at Thomas.hamby@ihs.gov or 240-252-0331.

SUPPLEMENTARY INFORMATION: This previously approved information collection project was last published in the Federal Register on February 23, 2022 (87 FR 10218) and allowed 30 days for public comment. No public comment was received in response to the notice. This notice announces our intent to submit this collection to OMB for approval of reinstatement without revision, and to solicit comments on specific aspects for the proposed information collection.

Title: Addendum to Declaration for Federal Employment (OF 306), Indian Health Service, Child Care and Indian Child Care Worker Positions (OMB No. 0917-0028). Type of Information Collection Request: Reinstatement without revision, of previously-approved information collection, 0917-0028, Addendum to Declaration for Federal Employment (OF 306), Indian Health Service, Child Care and Indian Child Care Worker Positions. There are no program changes or adjustments in burden hours. Form(s): Addendum to Declaration for Federal Employment (OF 306), Indian Health Service, Child Care and Indian Child Care Worker Positions. Need and Use of Information Collection: This is a request for approval of the collection of information as required by section 408 of the Indian Child Protection and Family Violence Prevention Act, Public Law (Pub. L.) 101-630, 104 Stat. 4544, 4551 codified as amended at 25 United States Code (U.S.C.) Section 3207; the Crime Control Act of 1990, Public Law 101-647, title II, subtitle E, section 231, 104 Stat. 4789, 4808, codified as amended at 34 U.S.C. 20351 (formerly codified at 42 U.S.C. 13041, which was transferred to 34 U.S.C. 20351); and 42 CFR part 136, subpart K.

The IHS is required to compile a list of all authorized positions within the IHS where the duties and responsibilities involve regular contact with, or control over, Indian children; and to conduct an investigation of the character of each individual who is employed, or is being considered for employment, in a position having regular contact with, or control over, Indian children. 25 U.S.C. 3207(a)(1) and (2). Section 3207(a)(3) of Title 25 requires regulations prescribing the minimum standards of character for individuals appointed to positions involving regular contact with, or control over, Indian children, and section 3207(b) provides that such standards shall ensure that no such individuals have been found guilty of, or entered a plea of nolo contendere or guilty to, any felonious offense, or any two or more misdemeanor offenses, under Federal, State, or Tribal law involving crimes of violence; sexual assault, molestation, exploitation, contact or prostitution; crimes against persons; or offenses committed against children.

In addition, 34 U.S.C. 20351 requires each agency of the Federal Government, and every facility operated by the Federal Government (or operated under contract with the Federal Government), that hires (or contracts for hire) individuals involved with the provision of child care services to children under the age of 18 to assure that all existing and newly hired employees undergo a criminal history background check. The background investigation is to be initiated through the personnel program of the applicable Federal agency. 34 U.S.C. 20351(b)(1)(C). The statute requires employment applications for individuals who are seeking work for an agency of the Federal Government, or for a facility or program operated by (or through contract with) the Federal Government, in positions involved with the provision of child care services to children under the age of 18, to contain a question asking whether the individual has ever been arrested for or charged with a crime involving a child, and if so, requiring a description of the disposition of the arrest or charge. 34 U.S.C. 20351(d)(1).

Affected Public: Individuals and households.

The table below provides: types of data collection instruments, estimated number of respondents, number of responses per respondent, average burden hour per response, and total annual burden hour(s).

Estimated Annual Burden Hours
Data collection instrument(s) | Number of respondents | Number of responses per respondent | Average burden per response (in hours) | Total annual burden responses (in hours)
Addendum to Declaration for Federal Employment (OF 306), Indian Health Service, Child Care and Indian Child Care Worker Positions (OMB 0917-0028) | 3,000 | 1 | 12/60 | 600
Total | 3,000 |  |  | 600

There are no Capital Costs, Operating Costs, and/or Maintenance Costs to report.

Requests for Comments: Your written comments and/or suggestions are invited on one or more of the following points:

(a) whether the information collection activity is necessary to carry out an agency function;

(b) whether the agency processes the information collected in a useful and timely fashion;

(c) the accuracy of the public burden estimate (the estimated amount of time needed for individual respondents to provide the requested information);

(d) whether the methodology and assumptions used to determine the estimates are logical;

(e) ways to enhance the quality, utility, and clarity of the information being collected; and

(f) ways to minimize the public burden through the use of automated, electronic, mechanical, or other technological collection techniques or other forms of information technology.

P. Benjamin Smith,
Acting Director, Indian Health Service.

[FR Doc. 2025-16341 Filed 8-25-25; 8:45 am]

BILLING CODE 4166-14-P